NUCLEAR REGULATORY COMMISSION

[Docket No. 50-302; License No. DPR-72; NRC-2011-0024]

In the Matter of Duke Energy Florida, Inc.; Crystal River Unit 3 Nuclear Generating Plant

AGENCY: Nuclear Regulatory Commission.

ACTION: Direct transfer of license; order.

SUMMARY: The U.S. Nuclear Regulatory Commission (NRC) is issuing an order to Duke Energy Florida, Inc. (DEF), approving the direct transfer of Facility Operating License No. DPR-72 for Crystal River Unit 3 Nuclear Generating Plant (CR-3), to the extent held by eight minority co-owners to DEF. The eight minority co-owners, all municipalities or utilities in the State of Florida, are as follows: The City of Alachua, City of Bushnell, City of Gainesville, City of Kissimmee, City of Leesburg, City of New Smyrna Beach and Utilities Commission/City of New Smyrna Beach, City of Ocala, and Orlando Utilities Commission/City of Orlando (the eight minority co-owners, collectively). The direct license transfer does not involve Seminole Electric Cooperative, Inc., the remaining co-owner of CR-3. A conforming license amendment will remove reference to the eight minority co-owners in the license. The CR-3 facility is permanently shut down and defueled and the application proposed no physical changes to the facility or operational changes. DEF and Seminole Electric Corporation, Inc., will be joint owners of CR-3 and DEF will be the operator of the facility. This Order is effective upon issuance.

DATES: The Order was issued on May 29, 2015, and is effective for one year.

ADDRESSES: Please refer to Docket ID NRC-2011-0024 when contacting the NRC about the availability of information regarding this document. You may obtain publicly-available information related to this document using any of the following methods:

• Federal Rulemaking Web site: Go to http://www.regulations.gov and search for Docket ID NRC-2011-0024. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced.

• NRC's PDR: You may examine and purchase copies of public documents at the NRC's PDR, Room O1-F21, One White Flint North, 11555 Rockville Pike, Rockville, Maryland 20852.

FOR FURTHER INFORMATION CONTACT: Michael D. Orenak, Office of Nuclear Reactor Regulation, U.S. Nuclear Regulatory Commission, Washington, DC 20555-0001; telephone: 301-415-3229; email: Michael.Orenak@nrc.gov.

SUPPLEMENTARY INFORMATION: The text of the Order is attached.

Dated at Rockville, Maryland this 29th day of May, 2015.
For The Nuclear Regulatory Commission.
Meena K. Khanna,
Chief, Plant Licensing IV-2 and Decommissioning Transition Branch, Division of Operating Reactor Licensing, Office of Nuclear Reactor Regulation.

Attachment—Order Approving Transfer of License and Conforming Amendment

United States of America

Nuclear Regulatory Commission

In the Matter of Duke Energy Florida, Inc.; Crystal River Unit 3 Nuclear Generating Plant, Docket No. 50-302, License No. DPR-72, Order Approving Transfer of License and Conforming Amendment.

I.

Duke Energy Florida, Inc. (DEF or the applicant), City of Alachua, City of Bushnell, City of Gainesville, City of Kissimmee, City of Leesburg, City of New Smyrna Beach and Utilities Commission/City of New Smyrna Beach, City of Ocala, Orlando Utilities Commission/City of Orlando, and Seminole Electric Cooperative, Inc., are holders of Facility Operating License No. DPR-72, which authorizes the possession of the Crystal River Unit 3 Nuclear Generating Plant (CR-3). Facility Operating License No. DPR-72 also authorizes DEF (currently owner of 91.78 percent of CR-3) to use and operate CR-3. CR-3 is located in Red Level, Florida, in Citrus County, about 5 miles south of Levy County. The site is 7.5 miles northwest of Crystal River, Florida, and 90 miles north of St. Petersburg, Florida. CR-3 is situated on the Gulf of Mexico, within the Crystal River Energy Complex.

CR-3 has been shut down since September 26, 2009, and the final removal of fuel from the reactor vessel was completed on May 28, 2011. By letter dated February 20, 2013, the licensee submitted a certification to the NRC of permanent cessation of power operations and the removal of fuel from the reactor vessel, pursuant to Sections 50.82(a)(1)(i) and 50.82(a)(1)(ii) of Title 10 of the Code of Federal Regulations (10 CFR). Upon docketing of this certification, the 10 CFR part 50 license for CR-3 no longer authorizes operation of the reactor or emplacement or retention of fuel into the reactor vessel, as specified in 10 CFR 50.82(a)(2).

II.

By application dated November 7, 2014, as supplemented by letter dated April 30, 2015 (collectively, the application), DEF requested that the U.S. Nuclear Regulatory Commission (NRC) approve the direct transfer of control of Facility Operating License No. DPR-72 for CR-3, to the extent held by the eight minority co-owners to DEF. The eight minority co-owners collectively own 6.52 percent of CR-3 and are as follows: The City of Alachua, City of Bushnell, City of Gainesville, City of Kissimmee, City of Leesburg, City of New Smyrna Beach and Utilities Commission/City of New Smyrna Beach, City of Ocala, and Orlando Utilities Commission/City of Orlando. The proposed direct transfer of the license does not involve Seminole Electric Cooperative, Inc., the remaining co-owner (1.70 percent interest) of CR-3. As a result of the transaction, DEF and Seminole Electric Cooperative, Inc., will become the joint owners of CR-3.

The applicant also requested approval of a conforming administrative license amendment that would remove the references to the eight minority co-owners in the license. DEF did not propose any physical changes to the facilities or operational changes in the application. After completion of the proposed transfer, DEF and Seminole Electric Cooperative, Inc., will be the joint owners of CR-3, holding 98.30 percent interest and 1.70 percent interest, respectively, and DEF will remain the operator of the facility.

DEF requested approval of the direct transfer of the facility operating license and the conforming license amendment pursuant to 10 CFR 50.80, “Transfer of licenses,” and 10 CFR 50.90, “Application for amendment of license, construction permit, or early site permit.” A notice entitled, “Crystal River Nuclear Generating Plant, Unit 3; Consideration of Approval of Transfer of License and Conforming Amendment,” was published in the Federal Register on April 28, 2015 (80 FR 23612). The NRC did not receive any public comments regarding the proposed license transfer.

Pursuant to 10 CFR 50.80, no license, or any right thereunder, shall be transferred, directly or indirectly, through transfer of control of the license, unless the Commission provides its consent in writing. Upon review of the information in the licensee's application and other information before the Commission, and relying upon the representations and agreements contained in the application, the NRC staff has determined that DEF is qualified to hold the ownership interests in the facility previously held by the eight minority co-owners. The NRC staff has also determined that the direct transfer of ownership interests in the facility to DEF, as described in the application, is otherwise consistent with applicable provisions of laws, regulations, and orders issued by the Commission, subject to the conditions set forth below. The NRC staff has further found that the application for the proposed license amendment complies with the standards and requirements of the Atomic Energy Act of 1954, as amended (the Act), and the Commission's rules and regulations set forth in 10 CFR Chapter I; the facility will operate in conformity with the applications, the provisions of the Act, and the rules and regulations of the Commission; there is reasonable assurance that the activities authorized by the proposed license amendment can be conducted without endangering the health and safety of the public and that such activities will be conducted in compliance with the Commission's regulations; the issuance of the proposed license amendment will not be inimical to the common defense and security or to the health and safety of the public; and the issuance of the proposed amendment will be in accordance with 10 CFR part 51 of the Commission's regulations and all applicable requirements have been satisfied.

The findings set forth above are supported by the NRC safety evaluation dated May 29, 2015.

III.

Accordingly, pursuant to Sections 161b, 161i, 161o and 184 of the Act, 42 U.S.C. Sections 2201(b), 2201(i), 2201(o) and 2234; and 10 CFR 50.80, it is hereby ordered that the direct transfer of the license, as described herein, to DEF is approved, subject to the following condition:

1. DEF shall provide satisfactory documentary evidence to the Director of the Office of Nuclear Reactor Regulation that it has obtained the insurance required of a licensee under 10 CFR part 140, “Financial Protection Requirements and Indemnity Agreements,” in the appropriate amount pursuant to the exemption to 10 CFR 140.11(a)(4) granted to DEF by NRC letter dated April 27, 2015 (Agencywide Documents Access and Management System (ADAMS) Accession No. ML14183B338).

It is further ordered that, consistent with 10 CFR 2.1315(b), the license amendment that makes changes, as indicated in Enclosure 2 to the cover letter forwarding this Order, to conform the license to reflect the subject direct license transfer is approved. The license amendment shall be issued and made effective at the time the proposed direct transfer is completed.

It is further ordered that after receipt of all required regulatory approvals of the proposed direct transfer action, DEF shall inform the Director of the Office of Nuclear Reactor Regulation in writing of such receipt, and the date of closing of the transfer no later than one business day prior to the date of the closing of the direct transfer. Should the direct transfer not be completed within one year of this Order's date of issue, this Order shall become null and void, provided, however, that upon written application and good cause shown, such date may be extended by order.

This Order is effective upon issuance.

For further details with respect to this Order, see the initial application dated November 7, 2014 (ADAMS Accession No. ML14321A450), as supplemented by letter dated April 30, 2015 (ADAMS Accession No. ML15126A278), and the safety evaluation dated May 29, 2015 (ADAMS Accession No. ML15121A570), which are available for public inspection at the Commission's Public Document Room (PDR), located at One White Flint North, 11555 Rockville Pike, Room O-1 F21 (First Floor), Rockville, Maryland and accessible electronically though the ADAMS Public Electronic Reading Room on the Internet at the NRC Web site, http://www.nrc.gov/reading-rm/adams.html. Persons who do not have access to ADAMS or who encounter problems in accessing the documents located in ADAMS should contact the NRC PDR reference staff by telephone at 1-800-397-4209, 301-415-4737, or by email at pdr.resource@nrc.gov.

Dated at Rockville, Maryland, this 29th day of May 2015.

For The Nuclear Regulatory Commission.

William M. Dean,

Director, Office of Nuclear Reactor Regulation.

[FR Doc. 2015-13939 Filed 6-5-15; 8:45 am]

BILLING CODE 7590-01-P